DEPARTMENT OF COMMERCE

Patent and Trademark Office

Agency Information Collection Activities; Submission to the Office of Management and Budget (OMB) for Review and Approval; Comment Request; Global Intellectual Property Academy (GIPA) Surveys

AGENCY: United States Patent and Trademark Office, Department of Commerce.

ACTION: Notice of information collection; request for comment.

SUMMARY: The United States Patent and Trademark Office (USPTO), as required by the Paperwork Reduction Act of 1995, invites comments on the extension of an existing information collection: 0651-0065 Global Intellectual Property Academy (GIPA) Surveys. The purpose of this notice is to allow 60 days for public comment preceding submission of the information collection to OMB.

DATES: To ensure consideration, comments regarding this information collection must be received on or before September 25, 2023.

ADDRESSES: Interested persons are invited to submit written comments by any of the following methods. Do not submit Confidential Business Information or otherwise sensitive or protected information.

• Email: InformationCollection@uspto.gov. Include “0651-0065 comment” in the subject line of the message.

• Federal Rulemaking Portal: http://www.regulations.gov.

• Mail: Justin Isaac, Office of the Chief Administrative Officer, United States Patent and Trademark Office, P.O. Box 1450, Alexandria, VA 22313-1450.

FOR FURTHER INFORMATION CONTACT: Request for additional information should be directed to J. David Binstead, Program Manager, Global Intellectual Property Academy, United States Patent and Trademark Office, P.O. Box 1450, Alexandria, VA 22313-1450; by telephone at 571-272-1500; or by email at james.binstead@uspto.gov with “0651-0065 comment” in the subject line. Additional information about this information collection is also available at http://www.reginfo.gov under “Information Collection Review.”

SUPPLEMENTARY INFORMATION:

I. Abstract

The Global Intellectual Property Academy (GIPA) was established in 2006 to offer training programs on enforcement of intellectual property rights, patents, trademarks, and copyrights. GIPA's training programs are designed to meet the specific needs of foreign government officials concerning various intellectual property topics. By attending these programs, foreign government officials learn about global intellectual property rights protection and enforcement and discuss strategies to handle the protection and enforcement issues in their respective countries. The GIPA training programs are an important instrument that USPTO uses to achieve its objectives of halting intellectual property theft and advancing intellectual property right policies.

The surveys in this information collection are conducted in an effort to provide additional details on “who” participants are, what kind of positions they hold, length of time working in an intellectual property area, type of organizations where respondents work, type of intellectual property functions, and the effect of the GIPA program on their professional work and their country's intellectual property efforts. This information is being collected to improve the services that the USPTO provides in its missions of serving the international IP community. The data captured will also be used to help meet organizational performance and accountability goals through the following legislative mandates and performance guidance:

• Government Performance and Results Act of 1993 (GPRA); ¹

¹ https://www.congress.gov/103/statute/STATUTE-107/STATUTE-107-Pg285.pdf.

• Government Performance and Results Modernization Act of 2010 (GPRMA); ²

² https://www.congress.gov/111/plaws/publ352/PLAW-111publ352.pdf.

• President's Management Agenda (PMA); ³ and

³ https://www.performance.gov/pma/.

• Foundations for Evidence Based Policy Making Act of 2018.⁴

⁴ https://www.congress.gov/115/plaws/publ435/PLAW-115publ435.pdf.

Evaluation and measurement efforts provide methodologically rigorous data activity and analyses in place of more subjective, ad hoc, non-standardized anecdotal material.

These voluntary surveys support various business goals developed by the USPTO to fulfill customer service and performance goals, to assist the USPTO in strategic planning for future initiatives, to verify existing service standards, and to establish new ones. The USPTO also uses these surveys to implement Executive Order 12862 of September 11, 1993, Setting Customer Service Standards, published in the Federal Register on September 14, 1993 (58 FR 48257).⁵ The USPTO does not intend to collect any personally identifying data from the participants and intends to maintain the contact information for the participants in a separate file for the quantitative data.

⁵ https://tile.loc.gov/storage-services/service/ll/fedreg/fr058/fr058176/fr058176.pdf.

II. Method of Collection

Items in this information collection may be submitted via online electronic submissions, and occasional in-person surveys.

III. Data

OMB Control Number: 0651-0065.

Forms: None.

Type of Review: Extension of a currently approved information collection.

Affected Public: Individuals or households.

Respondent's Obligation: Voluntary.

Estimated Number of Annual Respondents: 750 respondents.

Estimated Number of Annual Responses: 750 responses.

Estimated Time per Response: The USPTO estimates that the responses in this information collection will take the public approximately 15 minutes (0.25 hours) to complete. This includes the time to gather the necessary information, create the document, and submit the completed request to the USPTO.

⁶ USPTO uses the Bureau of Labor Statistics (BLS) Occupation Employment Statistics wage category 23-1021 (Administrative Law Judges: Federal Executive Branch) to represent an estimated wage of program attendees. USPTO estimates that the hourly wage will be in the 90th percentile, as respondents will likely be senior officials living in metropolitan areas; https://www.bls.gov/oes/current/oes231021.htm.

Estimated Total Annual Respondent Burden Hours: 188 hours.

Estimated Total Annual Respondent Hourly Cost Burden: $13,690.

Table 1—Total Burden Hours and Hourly Costs to Individual or Household Respondents
Item No. | Item | Estimated annual respondents | Responses per respondent | Estimated annual responses | Estimated time for response (hours) | Estimated annual burden hours | Rate ⁶ ($/hour) | Estimated annual burden
|  | (a) | (b) | (a) × (b) = (c) | (d) | (c) × (d) = (e) | (f) | (e) × (f) = (g)
1 | Overseas-Program Survey (or equivalent) | 225 | 1 | 225 | 0.25 | 56 | $72.82 | $4,078
2 | Post-Program Survey (or equivalent) | 150 | 1 | 150 | 0.25 | 38 | 72.82 | 2,767
3 | Alumni Survey (or equivalent) | 375 | 1 | 375 | 0.25 | 94 | 72.82 | 6,845
| Totals | 750 |  | 750 |  | 188 |  | 13,690

Estimated Total Annual Respondent Non-hourly Cost Burden: $0. There are no capital start-up, maintenance costs, recordkeeping costs, filing fees, or postage costs associated with this information collection.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Information Collections Officer, Office of the Chief Administrative Officer, United States Patent and Trademark Office.

[FR Doc. 2023-15788 Filed 7-25-23; 8:45 am]

BILLING CODE 3510-16-P